ENVIRONMENTAL PROTECTION AGENCY

[FRL-6898-6]

Clean Water Act Class II: Proposed Administrative Penalty Assessments and Opportunities to Comment Regarding Mr. Richard Westra, H&R Westra Dairy and Mr. Bernard Teunissen, Beranna Dairy

AGENCY: Environmental Protection Agency (EPA).

ACTION: Notice of Proposed Assessments of Clean Water Act Class II Administrative Penalties and opportunity to comment.

SUMMARY: EPA is providing notice of proposed administrative penalties for alleged violations of the Clean Water Act. EPA is also providing notice of opportunity to comment on the proposed penalties.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who has violated the conditions of a National Pollutant Discharge Elimination System permit may be assessed a penalty in a “Class II” administrative penalty proceeding. Class II proceedings under section 309(g) are conducted in accordance with consolidated rules of practice governing the administrative assessment of civil penalties, 40 CFR part 22.

EPA is providing notice of the following Class II penalty proceedings:

In the Matter of Richard Westra, Docket No. CWA-9-2000-0011; Complainant, Alexis Strauss, Director, Water Division, U.S. EPA, Region 9, 75 Hawthorne St., San Francisco, CA 94105; Respondent, Mr. Richard Westra, H&R Westra Dairy, 7851 Bickmore Avenue, Chino, CA 91710; filed September 28, 2000; seeking a penalty of up to $137,500 for various discharges from H&R Westra Dairy to a natural drainage channel which flows to the Prado Flood Control Basin and the Santa Ana River, in violation of “General Waste Discharge Requirements for Concentrated Animal Feeding Operations, including Dairies, within the Santa Ana Region,” NPDES No. CAG018001, and for various violations of conditions of that permit related to construction and maintenance of containment structures, inundation protection, surface runoff, drainage diversion, and other operational requirements.

In the Matter of Bernard Teunissen, Docket No. CWA-9-2000-0012; Complainant, Alexis Strauss, Director, Water Division, U.S. EPA, Region 9, 75 Hawthorne St., San Francisco, CA 94105; Respondent, Mr. Bernard Teunissen, Beranna Dairy, 16015 Mountain Avenue, Chino, CA 91710; filed September 29, 2000; seeking a penalty of up to $137,500 for various discharges from Beranna Dairy to Cypress Creek Channel, which flows to Chino Creek, the Prado Flood Control Basin and the Santa Ana River, in violation of “General Waste Discharge Requirements for Concentrated Animal Feeding Operations, including Dairies, within the Santa Ana Region,” NPDES No. CAG018001, and for various violations of conditions of that permit related to construction and maintenance of containment structures, surface runoff, drainage diversion, and other operational requirements.

Procedures by which the public may comment on a proposed Class II penalty or participate in a Class II penalty proceeding are set forth in the consolidated rules. A commenter may present written comments for the record at any time prior to the close of the record or by such date as the presiding officer may set.

FOR FURTHER INFORMATION CONTACT: Persons wishing to receive a copy of the consolidated rules, review the complaint or other documents filed in the proceedings, or comment or participate in the proceedings, should contact Danielle Carr, Regional Hearing Clerk, U.S. EPA, Region 9, 75 Hawthorne St., San Francisco, CA 94105, (415) 744-1391. Documents filed as part of the public record in the proceedings are available for inspection during business hours at the office of the Regional Hearing Clerk.

Dated: October 27, 2000.
Alexis Strauss,
Director, Water Division.

[FR Doc. 00-28711 Filed 11-8-00; 8:45 am]

BILLING CODE 6560-50-P